NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 10, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service (N1-95-05-3, 4 items, 3 temporary items). Correspondence of a routine nature and records relating to management of correspondence. Proposed for permanent retention are recordkeeping copies of correspondence pertaining to significant policy issues and program functions.

2. Department of the Army, Agency-wide (N1-AU-06-6, 1 item, 1 temporary item). Incapacitation pay case files relating to Reserve component soldiers who become ill or injured in the line of duty. Included are such records as endorsement and approval documents, investigation data, claims forms, medical documents, and pay vouchers. This schedule authorizes the agency to apply the proposed disposition instructions to any recordkeeping medium.

3. Department of the Army, Agency-wide (N1-AU-06-12, 1 item, 1 temporary item). Records relating to training, proficiency, and certification of air traffic control personnel. This schedule authorizes the agency to apply the proposed disposition instructions to any recordkeeping medium.

4. Department of Homeland Security, Transportation Security Administration (N1-560-06-5, 5 items, 5 temporary items). Reports covering activities, investigations, and special missions of Federal Air Marshals.

5. Department of Homeland Security, U.S. Coast Guard (N1-26-06-3, 4 items, 4 temporary items). Inputs, outputs, master files, and system documentation associated with an electronic information system used to track personal legal services for civil matters provided to eligible Coast Guard personnel and their dependents.

6. Department of the Navy, Naval Air Systems Command (N1-NU-06-2, 91 items, 58 temporary items). Records relating to F-14 aircraft design validation, maintenance, airworthiness, engineering changes, modifications, quality assurance, ground support, and engines and equipment. Included are paper records for which digitized versions are proposed for permanent retention. Also included are quarterly progress reports, extra copies of technical reports, and records relating to aircraft service changes, equipment repair, inspection and calibration instrumentation, and engine and spare parts inventory. Proposed for permanent retention are recordkeeping copies of general aeronautical and astronautical project files, technical reports, aircraft designs and specifications, test data, air worthiness and suitability records, and master files and documentation associated with electronic information systems used to maintain and track aircraft inventory and engineering changes.

7. Department of State, Bureau of Consular Affairs (N1-59-06-9, 2 items, 2 temporary items). Inputs and master files associated with a Web-based electronic information system used by citizens to register their travel plans in other countries.

8. Department of the Treasury, Office of Terrorism and Financial Intelligence (N1-56-06-2, 3 items, 2 temporary items). This schedule reduces the retention period for reference files and increases the retention period for document control logs, which were previously approved for disposal. Proposed for permanent retention are recordkeeping copies of finished intelligence products.

9. Department of the Treasury, Office of Thrift Supervision (N1-483-06-1, 6 items, 6 temporary items). Records relating to Year 2000 computer conversion activities, including policy and planning documents, administrative records, system implementation records, and copies of congressional testimonies.

10. Environmental Protection Agency, Agency-wide (N1-412-06-27, 3 items, 2 temporary items). This schedule authorizes the agency to apply the existing disposition instructions to final deliverables, products, and reports, regardless of recordkeeping medium. Paper recordkeeping copies of final deliverables and reports for Superfund site-specific activities and final deliverables and reports not related to environmental programs were previously approved for disposal. Paper recordkeeping copies of final deliverables and reports for all environmental programs except Superfund site-specific were previously approved as permanent. (Copies of final deliverables and reports for Superfund site-specific activities are preserved in Superfund site files, which were previously approved as permanent.)

11. Environmental Protection Agency, Environmental Appeals Board (N1-412-06-28, 1 item, 1 temporary item). This schedule authorizes the agency to apply the existing disposition instructions to Environmental Appeals Board case files regardless of recordkeeping medium. Paper recordkeeping copies of these case files were previously approved for disposal.

12. Environmental Protection Agency, Agency-wide (N1-412-06-30, 1 item, 1 temporary item). This schedule authorizes the agency to apply the existing disposition instructions to waste water construction and state revolving fund grant files, regardless of recordkeeping medium. Paper recordkeeping copies of these grant files were previously approved for disposal.

13. National Archives and Records Administration, Congressional Affairs and Communications Staff (N1-64-06-1, 5 items, 5 temporary items). Records relating to the agency's internal and external Web sites. Included are web management records such as style sheets, scripts, and supporting code, and content records such as textual, graphical, video, and audio files.

14. Office of Navajo and Hopi Indian Relocation, Agency-wide (N1-220-04-12, 3 items, 1 temporary item). Backup data for an electronic information system used to manage information relating to the Nahata Dzill' New Lands Chapter, including data on residents, property leases, and grazing permits. Proposed for permanent retention are the system master files and outputs.

15. United States Information Agency, Motion Picture and Television Services (N1-306-98-2, 52 items, 5 temporary items). Budget execution and fund control records, purchase orders and procurement reports, and subject files lacking historical significance. Proposed for permanent retention are recordkeeping copies of subject, country, program, contract, film treatment, production, and specialized files.

Dated: August 21, 2006.
Michael J. Kurtz,
Assistant Archivist for Records Services—Washington, DC.

[FR Doc. E6-14123 Filed 8-24-06; 8:45 am]

BILLING CODE 7515-01-P